DEPARTMENT OF HOUSING AND URBAN DEVELOPMENT

24 CFR Parts 1, 8, 16, and 40

[Docket No. FR-6102-F-01]

RIN 2501-AD88

Removal of Cross References to Previously Removed Appendices and Subpart

AGENCY: Office of General Counsel, HUD.

ACTION: Final rule.

SUMMARY: This final rule corrects HUD's regulations by removing cross references to appendices and a subpart that were removed by earlier rulemakings. In 1995, HUD removed several appendices throughout HUD's regulations deemed unnecessary or obsolete. In 1996, HUD consolidated its hearing procedures for nondiscrimination and equal opportunity matters in a new CFR part and removed the subpart of another. Cross-references to the removed appendices and subpart were not removed, however. This final rule corrects HUD's regulations by removing cross references to these nonexistent appendices and subpart.

DATES: Effective July 9, 2018.

FOR FURTHER INFORMATION CONTACT: Ariel Pereira, Associate General Counsel, Office of Legislation and Regulations, Department of Housing and Urban Development, 451 7th Street SW, Room 10282, Washington, DC 20410; telephone number 202-402-5138 (this is not a toll-free number). Persons with hearing or speech impairments may access this number through TTY by calling the Federal Relay Service at 800-877-8339 (this is a toll-free number).

SUPPLEMENTARY INFORMATION:

I. Background

On September 11, 1995 (60 FR 47260), HUD published a final rule entitled, “Elimination of Obsolete Parts” which removed from 24 CFR several appendices deemed obsolete and unnecessary. HUD undertook the regulation consistent with the “Regulatory Reinvention Initiative,” which required federal agencies to eliminate outdated regulations and modify others to reduce regulatory burden. Among the provisions removed were appendix A in 24 CFR part 1, appendices A and B in 24 CFR part 8, appendix A in 24 CFR part 16, and appendix A in 24 CFR part 40.

On October 4, 1996 (61 FR 52216), HUD published a final rule entitled, “Consolidated HUD Hearing Procedures for Civil Rights Matters,” which revised HUD's regulations by removing descriptions of nondiscrimination and equal opportunity hearing procedures from individual sections and consolidating those descriptions in a new part, 24 CFR part 180. As part of the 1996 final rule, HUD removed subpart E of 24 CFR part 8.

HUD has determined that while these 1995 and 1996 rules removed the above-mentioned appendices and subpart, cross references to these nonexistent appendices and subpart remain in title 24.

II. This Final Rule

This final rule removes cross references in title 24 to the nonexistent appendices and subpart. In 24 CFR part 16, however, removing the references to the nonexistent appendices requires that HUD revise § 16.3 to keep the meaning of the regulation the same. The deleted appendix in 24 CFR part 16 contained the address for Privacy Act inquiries, and this rule replaces the reference to the removed appendix with the current contact address for HUD's Privacy Act Officer. In removing 24 CFR part 40, appendix A, HUD decided to no longer provide a copy of the Uniform Federal Accessibility Standards text in its regulation, given that the information is publicly available and HUD's appendix would be outdated every time the United States Access Board updated the standards. HUD is not providing an updated cross-reference in 24 CFR part 40 but notes in this final rule that the public may access the most current Uniform Federal Accessibility Standards by visiting the website for the United States Access Board at www.access-board.gov.

III. Justification for Final Rulemaking

HUD generally publishes a rule for public comment before issuing a rule for effect, in accordance with its own regulations on rulemaking at 24 CFR part 10. Part 10 provides for exceptions to the general rule if the agency finds good cause to omit advance notice and public participation. The good cause requirement is satisfied when prior public procedure is “impracticable, unnecessary, or contrary to the public interest” (24 CFR 10.1; see also 5 U.S.C. 553(b)). HUD finds that public notice and comment are unnecessary for this rulemaking because this rule removes cross references to appendices and to a subpart which have already been removed by previous rulemaking, and, as such, this rule does not establish or affect substantive policy. This rule corrects HUD's regulations and eliminates confusion resulting from having cross references to appendices and to a subpart that no longer exist. For these reasons, HUD has determined that it is unnecessary to delay the effectiveness of this rule to solicit prior public comment.

IV. Findings and Certification

Regulatory Flexibility Act

The Regulatory Flexibility Act (RFA) (5 U.S.C. 601 et seq.) generally requires an agency to conduct a regulatory flexibility analysis of any rule subject to notice and comment rulemaking requirements, unless the agency certifies that the rule will not have a significant economic impact on a substantial number of small entities. Because HUD has determined that good cause exists to issue this rule without prior public comment, this rule is not subject to the requirement to publish an initial or final regulatory flexibility analysis under the RFA as part of such action.

Unfunded Mandates Reform

Section 202 of the Unfunded Mandates Reform Act of 1995 (UMRA) ¹ requires that an agency prepare a budgetary impact statement before promulgating a rule that includes a Federal mandate that may result in the expenditure by State, local, and tribal governments, in the aggregate, or by the private sector, of $100 million or more in any one year. If a budgetary impact statement is required, section 205 of UMRA also requires an agency to identity and consider a reasonable number of regulatory alternatives before promulgating a rule.² However, the UMRA applies only to rules for which an agency publishes a general notice of proposed rulemaking. As discussed above, HUD has determined, for good cause, that prior notice and public comment is not required on this rule and, therefore, the UMRA does not apply to this final rule.

¹ 2 U.S.C. 1532.

² 2 U.S.C. 1534.

Executive Order 13132, Federalism

Executive Order 13132 (entitled “Federalism”) prohibits an agency from publishing any rule that has federalism implications if the rule either imposes substantial direct compliance costs on State and local governments and is not required by statute, or the rule preempts State law, unless the agency meets the consultation and funding requirements of section 6 of the Executive order. This rule will not have federalism implications and would not impose substantial direct compliance costs on State and local governments or preempt State law within the meaning of the Executive order.

Environmental Review

This final rule does not direct, provide for assistance or loan and mortgage insurance for, or otherwise govern or regulate, real property acquisition, disposition, leasing, rehabilitation, alteration, demolition, or new construction, or establish, revise or provide for standards for construction or construction materials, manufactured housing, or occupancy. Accordingly, under 24 CFR 50.19(c)(1), this final rule is categorically excluded from environmental review under the National Environmental Policy Act of 1969 (42 U.S.C. 4321).

List of Subjects

24 CFR Part 1

Administrative practice and procedure, Civil rights, Reporting and recordkeeping requirements.

24 CFR Part 8

Administrative practice and procedure, Civil rights, Equal employment opportunity, Grant programs—housing and community development, Individuals with disabilities, Loan programs—housing and community development, Reporting and recordkeeping requirements.

24 CFR Part 16

Privacy.

24 CFR Part 40

Individuals with disabilities, Public housing, Reporting and recordkeeping requirements.

Accordingly, for the reasons discussed in this preamble, HUD amends 24 CFR parts 1, 8, 16, and 40 as follows:

PART 1—NONDISCRIMINATION IN FEDERALLY ASSISTED PROGRAMS OF THE DEPARTMENT OF HOUSING AND URBAN DEVELOPMENT—EFFECTUATION OF TITLE VI OF THE CIVIL RIGHTS ACT OF 1964

1. The authority citation for part 1 continues to read as follows:

Authority: 42 U.S.C. 2000d-1 and 3535(d).

§ 1.3 [Amended]

2. Amend § 1.3 by removing “, including any program or activity assisted under the statutes listed in appendix A of this part 1” from the first sentence and by removing the last two sentences of the section.

PART 8—NONDISCRIMINATION BASED ON HANDICAP IN FEDERALLY ASSISTED PROGRAMS AND ACTIVITIES OF THE DEPARTMENT OF HOUSING AND URBAN DEVELOPMENT

3. The authority citation for part 8 continues to read as follows:

Authority: 29 U.S.C. 794; 42 U.S.C. 3535(d) and 5309.

§ 8.1 [Amended]

4. In § 8.1, amend paragraph (b) by removing the reference “subparts D and E” and adding in its place “subpart D”.

§ 8.2 [Amended]

5. Amend § 8.2 by removing the last sentence of the section.

§ 8.4 [Amended]

6. In § 8.4, amend paragraph (c)(2) by removing the parenthetical “(see appendix B)”.

PART 16—IMPLEMENTATION OF THE PRIVACY ACT OF 1974

7. The authority citation for part 16 continues to read as follows:

Authority: 5 U.S.C. 552(a); 42 U.S.C. 3535(d).

§ 16.2 [Amended]

8. In § 16.2, amend paragraph (b)(2) by removing the phrase “, identified in Appendix A to this part,”.

§ 16.3 [Amended]

9. In § 16.3, amend paragraph (a) by removing the phrase “first address listed in Appendix A to this part” and adding in its place “following address: Privacy Act Officer, Department of Housing and Urban Development, 451 7th St. SW, Room 10139, Washington, DC 20410”.

§ 16.4 [Amended]

10. In § 16.4, amend paragraph (a) by removing the phrase “identified in Appendix A to this part”.

PART 40—ACCESSIBILITY STANDARDS FOR DESIGN, CONSTRUCTION, AND ALTERATION OF PUBLICLY OWNED RESIDENTIAL STRUCTURES

11. The authority citation for part 40 continues to read as follows:

Authority: 42 U.S.C. 3535(d), 4153.

§ 40.2 [Amended]

12. In § 40.2, amend paragraph (b)(3) by removing “contained in appendix A to this part”.

§ 40.4 [Amended]

13. Amend § 40.4 by removing “the specifications contained in appendix A to this part,”.

Dated: May 30, 2018.
J. Paul Compton, Jr.,
General Counsel.

[FR Doc. 2018-12274 Filed 6-6-18; 8:45 am]

BILLING CODE 4210-67-P